COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds product(s) to the Procurement List that will be furnished by nonprofit agencies employing persons who are blind or have other severe disabilities, and deletes product(s) and service(s) from the Procurement List previously furnished by such agencies.

DATES: Date added to and deleted from the Procurement List: April 18, 2021.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 6/19/2020, the Committee for Purchase From People Who Are Blind or Severely Disabled published notice of proposed additions to the Procurement List. This notice is published pursuant to 41 U.S.C. 8503(a)(2) and 41 CFR 51-2.3.

After consideration of the material presented to it concerning capability of qualified nonprofit agencies to provide the product(s) and impact of the additions on the current or most recent contractors, the Committee has determined that the product(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) to the Government.

2. The action will result in authorizing small entities to furnish the product(s) to the Government.

3. There are no known regulatory alternatives which would accomplish the objectives of the Javits-Wagner-O'Day Act (41 U.S.C. 8501-8506) in connection with the product(s) proposed for addition to the Procurement List.

End of Certification

Accordingly, the following product(s) are added to the Procurement List:

Product(s)

NSN(s)—Product Name(s):

MR 16500—Glasses, Readers, 1.25 Diopter

MR 16501—Glasses, Readers, 1.50 Diopter

MR 16502—Glasses, Readers, 1.75 Diopter

MR 16503—Glasses, Readers, 2.00 Diopter

MR 16504—Glasses, Readers, 2.50 Diopter

MR 16505—Glasses, Readers, 2.75 Diopter

Designated Source of Supply: Winston-Salem Industries for the Blind, Inc., Winston-Salem, NC

Contracting Activity: Military Resale-Defense Commissary Agency

Deletions

On 2/12/2021, the Committee for Purchase From People Who Are Blind or Severely Disabled published notice of proposed deletions from the Procurement List. This notice is published pursuant to 41 U.S.C. 8503(a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s): 5340-00-286-6895—Strap, Webbing, 48″ × 3/4″

Designated Source of Supply: Development Workshop, Inc., Idaho Falls, ID

Contracting Activity: SOCIAL SECURITY ADMINISTRATION, BALTIMORE, MD

NSN(s)—Product Name(s):

MR 1118—Holder, Sponge

MR 13034—Dispenser, Creamer, Plastic

MR 13039—Microwave Popcorn Popper

MR 13065—Microwave Steamer

Designated Source of Supply: Cincinnati Association for the Blind, Cincinnati, OH

Contracting Activity: Military Resale-Defense Commissary Agency

NSN(s)—Product Name(s):

MR 11312—Mug, Travel, Stainless Steel, West Loop 2.0, 20 oz.

MR 11314—Mug, Travel, Stainless Steel, West Loop 2.0, 16 oz.

Designated Source of Supply: Association for Vision Rehabilitation and Employment, Inc., Binghamton, NY

Contracting Activity: Military Resale-Defense Commissary Agency

NSN(s)—Product Name(s):

MR 10777—Platters, Christmas, Red, Includes Shipper 20777

MR 10778—Platters, Christmas, Blue, Includes Shipper 20777

Designated Source of Supply: Winston-Salem Industries for the Blind, Inc., Winston-Salem, NC

Contracting Activity: Military Resale-Defense Commissary Agency

Service(s)

Service Type: Janitorial/Custodial

Mandatory for: GSA Depot—Warehouse 6: 2695 N Sherwood Forest Drive, Baton Rouge, LA

Designated Source of Supply: Louisiana Industries for the Disabled, Inc., Baton Rouge, LA

Contracting Activity: PUBLIC BUILDINGS SERVICE, PBS R7

Service Type: Shredding & Destruction of Document & Recycling

Mandatory for: US Army Corps of Engineers Middle East District, Winchester VA

Mandatory for: US Army Corps of Engineers Records Holding Area (RHA), Winchester VA

Mandatory for: US Army Corps of Engineers Transatlantic Division, Winchester VA

Contracting Activity: DEPT OF THE ARMY, W31R ENDIS MIDDLE EAST

Service Type: Coating of Polypropylene Plastic Bleeding Tubes

Mandatory for: USDA, APHIS-National Veterinary Stockpile, Kansas City, MO

Designated Source of Supply: JobOne, Independence, MO

Contracting Activity: ANIMAL AND PLANT HEALTH INSPECTION SERVICE, USDA APHIS MRPBS

Michael R. Jurkowski,
Deputy Director, Business & PL Operations.

[FR Doc. 2021-05772 Filed 3-18-21; 8:45 am]

BILLING CODE 6353-01-P